DEPARTMENT OF JUSTICE

Antitrust Division

Notice Pursuant to the National Cooperative Research and Production Act of 1993—Recreation Park Trailer Industry Association, Inc.

Notice is hereby given that, on September 23, 2004, pursuant to section 6(a) of the National Cooperative Research and Production Act of 1993, 15 U.S.C. 4301 et seq. (“the Act”), Recreational Park Trailer Industry Association, Inc. (“RPTIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Recreational Park Trailer Industry Association, Inc., Newnan, GA. The nature and scope of RPTIA's standards development activities are: To develop and maintain a technical private industry standard addressing the manufacturing of Park Model Trailers, under the accreditation of the American National Standards Institute.

Dorothy B. Fountain,
Deputy Director of Operations, Antitrust Division.

[FR Doc. 04-23783 Filed 10-22-04; 8:45 am]

BILLING CODE 4410-11-M